DEPARTMENT OF TRANSPORTATION

Federal Highway Administration

Establishment of the National Freight Network

Correction

In notice document 2013-02580 appearing on pages 8686-8689, in the issue of Wednesday, February 6, 2013, make the following correction:

In the Table appearing on page 8687, in the third column, in the final row, “Connect top water ports marked by weight and values” should read “Connect top land ports for both weight and values”.

[FR Doc. C1-2013-02580 Filed 2-12-13; 8:45 am]

BILLING CODE 1505-01-D